DEPARTMENT OF ENERGY

Federal Energy Regulatory Commission

Notice of Application Tendered for Filing With the Commission, and Establishing Procedural Schedule for Relicensing and a Deadline for Submission of Final Amendments

September 7, 2004.

Take notice that the following hydroelectric application has been filed with the Commission and is available for public inspection.

a. Type of Application: New Major License;

b. Project No.: 2195-011;

c. Date Filed: August 26, 2004;

d. Applicant: Portland General Electric Company;

e. Name of Project: Clackamas River Hydroelectric Project, P-2195 (formerly Oak Grove, P-135 and North Fork, P-2195 projects);

f. Location: On the Oak Grove Fork of the Clackamas River on the Mount Hood National Forest, and on the Clackamas River, in Clackamas County, Oregon, near Estacada, Oregon;

g. Filed Pursuant to: Federal Power Act 16 U.S.C. §§ 791(a)-825(r);

h. Applicant Contact: Julie Keil, Portland General Electric, 121 SW Salmon Street, Portland, Oregon 97204, Phone: (503) 464-8864;

i. FERC Contact: John Blair at (202) 502-6092; e-mail john.blair@ferc.gov;

j. The existing 44-megawatt Oak Grove Project consists of a 100-foot-high dam at the lower end of Timothy Lake and a 68-foot-high diversion dam below Lake Harriet, both on the Oak Grove Fork of the Clackamas River. The powerhouse is located on the Clackamas River. The Oak Grove project is located on U.S. Forest Service and Bureau of Land Management Land. The 129-megawatt North Fork Project is comprised of three developments on the Clackamas River: A 206-foot-high dam with powerhouse located at the lower end of North Fork Reservoir; a 47-foot-high dam with powerhouse located at the lower end of Faraday Lake; and a 85-foot-high dam with powerhouse located at the lower end of Estacada Lake. The North Fork Project is located on U.S. Forest Service and Bureau of Land Management land. On June 18, 2003 Oak Grove and North Fork licenses were amended combining the two projects into one license called the Clackamas River Project No. 2195;

k. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above;

You may also register online at http://www.ferc.gov/docs-filing/esubscription.asp to be notified via e-mail of new filings and issuances related to this or other pending projects. For assistance, contact FERC Online Support.

l. Procedural schedule and final amendments: A schedule for processing the application will be provided in a future notice.

Final amendments to the application must be filed with the Commission no later than 30 days from the date when the notice soliciting terms and conditions is issued.

Magalie R. Salas,
Secretary.

[FR Doc. E4-2169 Filed 9-13-04; 8:45 am]

BILLING CODE 6717-01-P